CONSUMER PRODUCT SAFETY COMMISSION

[Docket No. CPSC-2010-0055]

Agency Information Collection Activities; Submission for OMB Review; Comment Request—Standard for the Flammability of Mattresses and Mattress Pads and Standard for the Flammability (Open Flame) of Mattress Sets

AGENCY: Consumer Product Safety Commission.

ACTION: Notice.

SUMMARY: In accordance with the requirements of the Paperwork Reduction Act (PRA) of 1995, the Consumer Product Safety Commission (Commission or CPSC) announces that the Commission has submitted to the Office of Management and Budget (OMB) a request for extension of approval of a collection of information associated with the collection of information set forth in the Standard for the Flammability of Mattresses and Mattress Pads, and the Standard for the Flammability (Open Flame) of Mattress Sets, approved previously under OMB Control No. 3041-0014. In the Federal Register of January 25, 2017 (82 FR 8409), the CPSC published a notice to announce the agency's intention to seek extension of approval of the collection of information. The Commission received no comments. Therefore, by publication of this notice, the Commission announces that CPSC has submitted to the OMB a request for extension of approval of that collection of information, without change.

DATES: Written comments on this request for extension of approval of information collection requirements should be submitted by May 11, 2017.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW., Washington, DC 20503. In addition, written comments that are sent to OMB also should be submitted electronically at http://www.regulations.gov, under Docket No. CPSC-2010-0055.

FOR FURTHER INFORMATION CONTACT: For further information contact: Robert H. Squibb, Consumer Product Safety Commission, 4330 East West Highway, Bethesda, MD 20814; (301) 504-7815, or by email to: rsquibb@cpsc.gov.

SUPPLEMENTARY INFORMATION: CPSC has submitted the following currently approved collection of information to OMB for extension:

A. Background

Approximately 358 firms produce mattresses.¹ The Standard for the Flammability of Mattresses and Mattress Pads, 16 CFR part 1632 (part 1632 standard), was promulgated under section 4 of the Flammable Fabrics Act (FFA), 15 U.S.C. 1193, to reduce unreasonable risks of burn injuries and deaths from fires associated with mattresses and mattress pads. The part 1632 standard prescribes requirements to test whether a mattress or mattress pad will resist ignition from a smoldering cigarette. The part 1632 standard also requires manufacturers to perform prototype tests of each combination of materials and construction methods used to produce mattresses or mattress pads and to obtain acceptable results from such testing. Manufacturers and importers must maintain the records and test results specified under the standard.

¹ In the previous information collection, CPSC used the census data for the North American Industry Classification System (NAICS) code to count the number of establishments that produce mattresses. However, firms may have multiple establishments associated with them. Accordingly, CPSC uses the number of firms rather than the number of establishments.

The Commission also promulgated the Standard for the Flammability (Open Flame) of Mattress Sets, 16 CFR part 1633 (part 1633 standard), under section 4 of the FFA to reduce deaths and injuries related to mattress fires, particularly those ignited by open-flame sources, such as lighters, candles, and matches. The part 1633 standard requires manufacturers to maintain certain records to document compliance with the standard, including maintaining records concerning prototype testing, pooling, and confirmation testing, and quality assurance procedures and any associated testing. The required records must be maintained for as long as mattress sets based on the prototype are in production and must be retained for 3 years thereafter. Although some larger manufacturers may produce mattresses based on more than 100 prototypes, most mattress manufacturers base their complying production on 15 to 20 prototypes. OMB previously approved the collection of information for 16 CFR parts 1632 and 1633, under control number 3041-0014, with an expiration date of April 30, 2017. The information collection requirements under the part 1632 standard do not duplicate the testing and recordkeeping requirements under the part 1633 standard.

B. Burden Hours

16 CFR 1632: Staff estimates that there are 358 respondents. It is estimated that each respondent will spend 26 hours for testing and record keeping annually for a total of 9,308 hours (358 firms × 26 hours = 9,308). The hourly compensation for the time required for record keeping is $66.19 (U.S. Bureau of Labor Statistics, “Employer Costs for Employee Compensation,” June 2016, Table 9, total compensation of all management, professional, and related occupations in goods-producing industries: http://www.bls.gov/ncs). The annualized cost to respondents would be approximately $616,097 (9,308 hours × $66.19).

16 CFR 1633: The standard requires detailed documentation of prototype identification and testing records, model and prototype specifications, inputs used, name and location of suppliers, and confirmation of test records, if establishments choose to pool a prototype. This documentation is in addition to documentation already conducted by mattress manufacturers in their efforts to meet 16 CFR part 1632. Staff estimates that there are 358 respondents. Based on staff estimates, the recordkeeping requirements are expected to require about 4 hours and 44 minutes per establishment, per qualified prototype. Although some larger manufacturers reportedly are producing mattresses based on more than 100 prototypes, most mattress manufacturers probably base their complying production on 15 to 20 prototypes, according to an industry representative contacted by staff. Assuming that establishments qualify their production with an average of 20 different qualified prototypes, recordkeeping time is about 94.6 hours (4.73 hours x 20 prototypes) per establishment, per year. (Note that pooling among establishments or using a prototype qualification for longer than 1 year will reduce this estimate). This translates to an annual recordkeeping time cost to all mattress producers of 33,867 hours (94.6 hours x 358 firms). The hourly compensation for the time required for record keeping is $66.19 (U.S. Bureau of Labor Statistics, “Employer Costs for Employee Compensation,” June 2016, Table 9, total compensation of all management, professional, and related occupations in goods-producing industries: http://www.bls.gov/ncs). The annual total estimated costs for recordkeeping are approximately $2,241,657 (33,867 hours × $66.19).

The total estimated cost to the 358 firms for the burden hours associated with both 16 CFR part 1632 and 16 CFR part 1633 is approximately $2.86 million annually.

Dated: April 6, 2017.
Todd A. Stevenson,
Secretary, Consumer Product Safety Commission.

[FR Doc. 2017-07236 Filed 4-10-17; 8:45 am]

BILLING CODE 6355-01-P